DEPARTMENT OF EDUCATION

Applications for New Awards; Technical Assistance and Dissemination To Improve Services and Results for Children With Disabilities—National Center on Rigorous Comprehensive Education for Students With Disabilities

AGENCY: Office of Special Education and Rehabilitative Services, Department of Education.

ACTION: Notice.

SUMMARY: The Department of Education (Department) is issuing a notice inviting applications for new awards for fiscal year (FY) 2024 for a National Center on Rigorous Comprehensive Education for Students with Disabilities, Assistance Listing Number 84.326C. This notice relates to the approved information collection under OMB control number 1820-0028.

DATES:

Applications Available: February 22, 2024.

Deadline for Transmittal of Applications: April 22, 2024.

Deadline for Intergovernmental Review: June 21, 2024.

Pre-Application Webinar Information: No later than February 27, 2024, OSERS will post pre-recorded informational webinars designed to provide technical assistance (TA) to interested applicants. Links to the webinars may be found at https://www2.ed.gov/fund/grant/apply/osep/new-osep-grants.html.

ADDRESSES: For the addresses for obtaining and submitting an application, please refer to our Common Instructions for Applicants to Department of Education Discretionary Grant Programs, published in the Federal Register on December 7, 2022 (87 FR 75045) and available at www.federalregister.gov/d/2022-26554.

FOR FURTHER INFORMATION CONTACT: David Emenheiser, U.S. Department of Education, 400 Maryland Avenue SW, Room 4A10, Washington, DC 20202. Telephone: (202) 987-0124. Email: David.Emenheiser@ed.gov.

If you are deaf, hard of hearing, or have a speech disability and wish to access telecommunications relay services, please dial 7-1-1.

SUPPLEMENTARY INFORMATION:

Full Text of Announcement

I. Funding Opportunity Description

Purpose of Program: The purpose of the Technical Assistance and Dissemination to Improve Services and Results for Children with Disabilities program is to promote academic achievement and to improve results for children with disabilities by providing TA, supporting model demonstration projects, disseminating useful information, and implementing activities that are supported by scientifically based research.

Priority: This competition includes one absolute priority. In accordance with 34 CFR 75.105(b)(2)(v), this priority is from allowable activities specified in the statute (see sections 663 and 681(d) of the Individuals with Disabilities Education Act (IDEA); 20 U.S.C. 1463 and 1481(d)).

Absolute Priority: For FY 2024 and any subsequent year in which we make awards from the list of unfunded applications from this competition, this priority is an absolute priority. Under 34 CFR 75.105(c)(3), we consider only applications that meet this priority.

This priority is:

The National Center on Rigorous Comprehensive Education for Students with Disabilities.

Background:

Students receiving special education and related services are general education students first and foremost. In the 2004 reauthorization of IDEA, Congress found that “[a]n effective educational system serving students with disabilities should maintain high academic achievement standards and clear performance goals for children with disabilities, consistent with the standards and expectations for all students in the educational system and provide for appropriate and effective strategies and methods to ensure that all children with disabilities have the opportunity to achieve those standards and goals.” 20 U.S.C. 1450(4)(A). “Raise the Bar: Lead the World is the U.S. Department of Education's call to action to transform P-12 education and unite around what truly works—based on decades of experience and research—to advance educational equity and excellence” (www.ed.gov/raisethebar/), including for students with disabilities. Through the Raise the Bar initiative, the Department seeks to focus attention to “deliver a comprehensive and rigorous education for every student.” Currently, students with disabilities too frequently lack access to a rigorous comprehensive education and remain under-challenged to achieve and progress from grade to grade (Cole et al., 2023).

A cornerstone of special education under IDEA is a free appropriate public education (FAPE) in the least restrictive environment (LRE). It is through high-quality person-centered ¹ individualized education programs (IEPs) that local educational agencies (LEAs) and schools plan and deliver evidence-based instruction, supports, and services to students with disabilities to provide FAPE in the LRE. However, States, LEAs, and schools continue to face significant challenges with providing FAPE, including person-centered, rigorous, and specially designed instruction and service delivery. Recent research indicates that the majority of IEPs are incomplete and lack substantive sufficiency of the statement of present levels of performance, which is the crucial initial component of a person-centered IEP (e.g., Hott et al., 2021; Lequia et al., 2023). Although LEA, school-level, and classroom-level programming directly influence student outcomes, school teams are often too overwhelmed to implement the many projects, priorities, curricula, frameworks, and initiatives they are tasked to do (Wong et al., 2017). Schools end up piecing together multiple competing and fragmented priorities, instructional materials, and programs (Kaufman et al., 2020).

¹ Some States and organizations have defined “person-centered,” as used in this notice, to reference when students and their families are actively sought to participate in their schooling, including IEP development and implementation, the course of study, and related and transition services, however this term is still developing in the field. The discussions and decisions leading to a person-centered program are founded upon the unique school, extracurricular, and post-secondary strengths, interests, and goals of the student and their family.

Schools have supported students' academic recovery in post-COVID schooling through accelerated learning, compensatory education, mental health supports, trauma-informed practices, and other activities (Page et al., 2021), but study findings suggest that the pandemic worsened existing inequity (Kuhfeld et al., 2022). As a result, LEAs and schools often struggle to address the needs of students with disabilities. School personnel need strategies, resources, and supports to assist them in streamlining, braiding, blending, and integrating instructional materials, standards, initiatives, frameworks, priorities, and practices into comprehensive and rigorous programming, which can result in increased and improved access, opportunities, and outcomes for students with disabilities as a whole and among subpopulations (e.g., disability category, age, grade, gender, race, ethnicity).

The current instructional environment is further challenged when novice and underqualified personnel provide instruction and services to students with disabilities, serve on IEP teams, and manage caseloads of students with disabilities (Garcia et al., 2019). The National Center for Education Statistics (NCES) data show that 45 percent of public schools are operating without a full teaching staff (https://ies.ed.gov/schoolsurvey/), with special education positions disproportionately vacant, and 52 percent report great difficulty in filling vacancies by teachers with the appropriate certification or license. Additionally, all school professionals, including special education and general education personnel, should have a strong understanding of their roles on school teams to develop rigorous IEPs and to implement instruction and service delivery consistent with students' IEPs (Lequia et al., 2023). Teams must work together to develop and implement rigorous and comprehensive educational programming that allows students with disabilities to meet person-centered, rigorous objectives across the school's curricular, co-curricular, and extracurricular offerings.

Taken together, these challenges indicate the local context remains both unique from LEA to LEA and crucial to the programming offered, the objectives identified, and the services and supports needed to overcome the challenges and meet the objectives. To assist in addressing them, this project will develop and disseminate models and resources and provide TA to school teams to support the development and implementation of a rigorous and comprehensive education, which will result in improved educational results and functional outcomes for students with disabilities.

Priority:

The purpose of this priority is to fund a cooperative agreement to establish and operate a National Center on Rigorous Comprehensive Education for Students with Disabilities (project). The project will assist public, private, charter, Tribal, and correctional school teams, including administration, general and special education, related services, families, the community, and, to the extent possible, students, to increase the number and quality of evidence-based ² IEPs with person-centered, rigorous objectives, the implementation of which will support the progress of students with disabilities from grade to grade and preparation for postsecondary education, employment, and community living.

² For the purposes of this priority, “evidence-based” means, at a minimum, evidence that demonstrates a rationale (as defined in 34 CFR 77.1) based on high-quality research findings or positive evaluation that such activity, strategy, or intervention is likely to improve student outcomes or other relevant outcomes.

The project must achieve, at a minimum, the following expected outcomes:

(a) Support of school teams to achieve consistent implementation of person-centered specially designed instruction, related services, and accommodations consistent with the students' IEPs and through use of evidence-based and best instructional practices to allow students with disabilities to achieve person-centered, rigorous objectives;

(b) Development and use of models for streamlining, braiding, blending, and integrating instructional materials, standards, initiatives, frameworks, priorities, and practices into a cohesive school-wide program easing professional burden while simultaneously raising school team expectations of students with disabilities to achieve person-centered, rigorous objectives;

(c) Development and increased use of evidence-based strategies, resources, and supports that allow schools to provide rigorous educational programming to prepare students with disabilities for postsecondary education, employment, and community living; and

(d) Support of school teams to achieve improved equity of access, opportunities, achievement, attainment, and outcomes, including academic achievement and social, emotional, and behavioral development by students with disabilities as a whole group and among disaggregated groups.

In addition to these programmatic requirements, to be considered for funding under this priority, applicants must meet the application and administrative requirements in this priority, which are:

(a) Demonstrate, in the narrative section of the application under “Significance,” how the proposed project will—

(1) Identify and address the challenges to forming and sustaining effective school teams that include administration, general and special education personnel, related services providers, families, the community, and students;

(2) Identify and address the challenges facing public, private, charter, Tribal, and correctional school teams in their substantive and procedural implementation of educational programming for children with disabilities; and

(3) Apply evidence-based strategies and best practices that will effectively address the nature and magnitude of the challenges, described in response to paragraphs (a)(1) and (2), within a variety of schools, LEAs, and community contexts.

(b) Demonstrate, in the narrative section of the application under “Quality of project services,” how the proposed project will—

(1) Ensure equal access and treatment for members of groups that have traditionally been underrepresented based on race, color, national origin, gender, age, or disability. To meet this requirement, the applicant must describe how it will—

(i) Identify the needs of the intended recipients for TA and information; and

(ii) Ensure that services and products meet the needs of the intended recipients of the project services;

(2) Achieve its goals, objectives, and intended outcomes. To meet this requirement, the applicant must provide—

(i) Measurable intended project outcomes; and

(ii) In Appendix A, the logic model (as defined in 34 CFR 77.1) by which the proposed project will achieve the expected outcomes and that depicts, at a minimum, the goals, activities, outputs, and intended outcomes of the proposed project;

(3) Use a conceptual framework (and provide a copy in Appendix A) to develop project plans and activities, describing any underlying concepts, assumptions, expectations, beliefs, or theories, as well as the presumed relationships or linkages among these variables, and any empirical support for this framework;

Note: The following websites provide more information on logic models and conceptual frameworks: https://osepideasthatwork.org/sites/default/files/2021-12/ConceptualFramework_Updated.pdf and www.osepideasthatwork.org/resources-grantees/program-areas/ta-ta/tad-project-logic-model-and-conceptual-framework.

(4) Be based on current research and make use of evidence-based practices (EBPs). To meet this requirement, the applicant must describe—

(i) The current research and practices on developing, implementing, evaluating, and improving rigorous comprehensive education for students with disabilities to progress grade to grade and be ready for postsecondary education, employment, and community living;

(ii) The current research and practices about adult learning principles and implementation science that will inform the proposed product development, training, and TA;

(iii) How the proposed project will incorporate current research and practices in the development and delivery of its products and services; and

(iv) How the proposed project will transfer the pertinent resources and products developed by the PROGRESS Center (www.promotingprogress.org) and maintain the continuity of services to their TA recipients as part of the transition to a new award, as appropriate;

(5) Develop products and provide services that are of high quality and sufficient intensity and duration, responsive to the users' changing capacity, to achieve the intended outcomes of the proposed project. To address this requirement, the applicant must describe—

(i) How it proposes to identify or develop the knowledge base regarding—

(A) Defining and operationalizing high expectations for students with disabilities, and supporting the students, their families, and the professionals working with them to strive to meet the high expectations;

(B) Clarifying the appropriate use of EBPs by disaggregating the research evidence of effectiveness among diverse settings and populations, such as areas with low and high population densities, diverse levels of wealth and poverty, and underserved populations, such as populations of color, homeless, food insecure, migrant, and justice-involved populations;

(C) Clarifying roles and strengthening meaningful participation of administrators, general educators, special educators, related service providers, and others to set high expectations and person-centered, rigorous objectives;

(D) Building capacity of school teams to leverage expertise of all school and LEA personnel, families, students, and community members in providing instruction, supports, and services so that students with disabilities progress from grade to grade and are prepared for postsecondary education, employment, and community living;

(E) Building and sustaining community partnerships among schools, community-based programs, child and youth associations, and places of worship, among others, to establish, strengthen, and sustain rigorous comprehensive education within various community contexts; and

(F) Allocating resources effectively and efficiently, including personnel who are qualified to serve students with disabilities but are currently not in special education positions (e.g., dual certified teachers);

(ii) Its proposed approach to universal, general TA,³ which must describe—

³ “Universal, general TA” means TA and information provided to independent users through their own initiative, resulting in minimal interaction with TA center staff and including one-time, invited or offered conference presentations by TA center staff. This category of TA also includes information or products, such as newsletters, guidebooks, or research syntheses, downloaded from the TA center's website by independent users. Brief communications by TA center staff with recipients, either by telephone or email, are also considered universal, general TA.

(A) The intended recipients, including the type and number of recipients, that will receive the products and services;

(B) The products and services that the project proposes to make available;

(C) How it proposes to develop and maintain a high-quality website, with an easy-to-navigate design, that meets or exceeds government- or industry-recognized standards for accessibility; and

(D) The expected reach and impact of universal, general TA;

(iii) The proposed approach to targeted, specialized TA,⁴ which must describe—

⁴ “Targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services;

(B) The products and services that the project proposes to make available; and

(C) The expected impact of targeted, specialized TA;

(iv) Its proposed approach to intensive, sustained TA,⁵ which must describe—

⁵ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) The intended recipients, including the type and number of recipients from a variety of settings and geographic distributions, that will receive the intensive, sustained TA products and services designed to impact the number and quality of IEPs with person-centered, rigorous objectives that support the progress of students with disabilities from grade to grade and preparation for postsecondary education, employment, and community living;

(B) The proposed approach to determine the readiness, capacity, and commitment of the—

(1) Project to engage specific LEA and school teams—that include administration, general and special education personnel, related services providers, families, and the community—in a manner that is responsive to the local context (as described in the Background section of this notice), giving special attention to engage those LEAs and schools with the greatest need for support;

(2) Public, private, charter, Tribal, and correctional LEA and school teams to specify the scope and duration of intensive work to effect change of policies, programs, and operations and allocate the resources; and

(3) Project, LEA, and school teams to allocate the resources to implement the TA plan and measure and evaluate the improvement, spread, and sustainment of the new policies, programs, and operations at the district and school levels, and among disaggregated populations; and

(C) The expected impact of intensive, sustained TA; and

(v) How the proposed project will intentionally engage families of children with disabilities and individuals with disabilities—including underserved families ⁶ and individuals—in the development, implementation, and evaluation of its products and services across all levels of TA;

⁶ For the purposes of this priority, “underserved families” refers to foster, kinship, migrant, technologically unconnected, and military- or veteran-connected families; and families of color, living in poverty, without documentation of immigration status, experiencing homelessness or housing insecurity, or impacted by the justice system, including the juvenile justice system. Underserved families also refers to families that include: members of a federally or State recognized Indian Tribe; English learners; adults who experience a disability; members who are lesbian, gay, bisexual, transgender, queer or questioning, or intersex (LGBTQI+); adults in need of improving their basic skills or with limited literacy; and disconnected adults.

(6) Develop products and implement services that maximize efficiency. To address this requirement, the applicant must describe—

(i) How the proposed project will use technology to achieve the intended project outcomes;

(ii) The organizations with which the proposed project will collaborate, three of which must be the FY 2023 funded National Center for Innovative Development of Educational Approaches for Leaders, National Center on Intensive Interventions, and National Center for Systemic Improvement, and the intended outcomes of the collaboration; and

(iii) How the proposed project will use non-project resources to achieve the intended project outcomes, including the dissemination of pertinent products developed by other Department-funded projects; and

(7) How the project will systematically disseminate information, products, and services to varied intended audiences. To address this requirement the applicant must describe—

(i) The variety of dissemination strategies the project will use throughout the five years of the project to promote awareness and use of its products and services;

(ii) How the project will tailor dissemination strategies across all planned levels of TA to ensure that products and services reach intended recipients and those recipients can access and use those products and services;

(iii) How the project's dissemination plan is connected to the proposed outcomes of the project; and

(iv) How the project will ensure, by evaluating and, when necessary, correcting, all digital products and external communications meet or exceed government or industry-recognized standards for accessibility.

(c) In the narrative section of the application under “Quality of the project evaluation,” include an evaluation plan for the project developed in consultation with and implemented by a third-party evaluator.⁷ The evaluation plan must—

⁷ A “third-party” evaluator is an independent and impartial program evaluator who is contracted by the grantee to conduct an objective evaluation of the project. This evaluator must not have participated in the development or implementation of any project activities, except for the evaluation activities, nor have any financial interest in the outcome of the evaluation.

(1) Articulate formative, diagnostic, and summative evaluation questions, including important process and outcome evaluation questions, the answers to which provide evidence of the success and impact of the project reaching the outcomes listed in this notice. These questions must be related to the project's proposed logic model required in paragraph (b)(2)(ii) of this notice;

(2) Describe how resources, costs, progress, and fidelity of implementation, as well as project outcomes, will be measured to answer the evaluation questions. In measuring progress of implementation across all levels of TA, the plan must include criteria for determining the extent to which the project's products and services reached intended recipients, data on how recipients use the products and services, and the impact of the products and services. Data collected must include feedback from recipients. The plan must also specify the measures and associated instruments or sources for data appropriate to the evaluation questions and include information regarding reliability and validity of measures where appropriate;

(3) Describe strategies for analyzing data and how data collected as part of this plan will be used—

(i) To inform and improve service delivery and efficiency over the course of the project;

(ii) To refine the proposed logic model and evaluation plan, including subsequent data collection; and

(iii) To report formative and summative project performance; and

(4) Provide a timeline for conducting the evaluation and include staff assignments for completing the plan. The timeline must indicate that the data will be available annually for the annual performance report (APR) and at the end of Year 2 for the review process described under the heading, Fourth and Fifth Years of the Project; and

(5) Dedicate sufficient funds in each budget year to cover the costs of developing or refining the evaluation plan in consultation with a third-party evaluator, as well as the costs associated with the implementation of the evaluation plan by the third-party evaluator.

(d) Demonstrate, in the narrative section of the application under “Adequacy of resources and quality of project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities;

(4) The proposed project will have processes, resources, and funds in place to provide equitable access for project staff, contractors, and partners who require digital accessibility accommodations; ⁸ and

⁸ For information about digital accessibility and accessibility standards from Section 508 of the Rehabilitation Act, visit https://osepideasthatwork.org/resources-grantees/508-resources.

(5) The proposed costs are reasonable in relation to the anticipated results and benefits.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients; and

(4) The proposed project will benefit from a diversity of perspectives, including those of families, educators, TA providers, researchers, and policy makers, among others, in its development and operation.

(f) Address the following application requirements. The applicant must—

(1) Include, in Appendix A, personnel-loading charts and timelines, as applicable, to illustrate the management plan described in the narrative;

(2) Include, in the budget, attendance at the following:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or other authorized representative;

(ii) A three-day project directors' conference in Washington, DC, during each year of the project period;

(iii) Two annual two-day trips to attend Department briefings, Department-sponsored conferences, and other meetings, as requested by OSEP; and

(iv) A one-day intensive 3+2 review meeting in Washington, DC, during the second year of the project period;

(3) Include, in the budget, a line item for an annual set-aside of 5 percent of the grant amount to support emerging needs that are consistent with the proposed project's intended outcomes, as those needs are identified in consultation with, and approved by, the OSEP project officer. With approval from the OSEP project officer, the project must reallocate any remaining funds from this annual set-aside no later than the end of the third quarter of each budget period;

(4) Describe how the project will engage doctoral students or post-doctoral fellows, including those who are multilingual and racially, ethnically, and culturally diverse, in the project to increase the number of future leaders in the field who are knowledgeable about special education leadership, knowledge development, TA, and Department-funded projects;

(5) Provide an assurance that it will post its annual project progress toward meeting project goals on the project website; and

(6) Include, in Appendix A, an assurance to assist OSEP with the transfer of pertinent resources and products and to maintain the continuity of services to LEAs and schools during the transition to a new award at the end of this award period, as appropriate.

Fourth and Fifth Years of the Project:

In deciding whether to continue funding the project for the fourth and fifth years, the Secretary will consider the requirements of 34 CFR 75.253(a), including—

(a) The recommendations of a 3+2 review team consisting of experts with knowledge and experience in school administration, special education leadership, TA, and project evaluation. This review will be conducted during a one-day intensive meeting that will be held during the last half of the second year of the project period;

(b) The timeliness with which, and how well, the requirements of the negotiated cooperative agreement have been or are being met by the project; and

(c) The quality, relevance, and usefulness of the project's products and services and the extent to which the project's products and services are aligned with the project's objectives and likely to result in the project achieving its intended outcomes.

Under 34 CFR 75.253, the Secretary may reduce continuation awards or discontinue awards in any year of the project period for excessive carryover balances or a failure to make substantial progress. The Department intends to closely monitor unobligated balances and substantial progress under this program and may reduce or discontinue funding accordingly.

References

Cole, S.M., Murphy, H.R., Frisby, M.B., & Robinson, J. (2023). The relationship between special education placement and high school outcomes. Journal of Special Education, 57(1), 13-23. https://doi.org/10.1177/00224669221097945.

Garcia, E., & Weiss, E. (2019). The teacher shortage is real, large and growing, and worse than we thought. The first report in “The Perfect Storm in the Teacher Labor Market” series. Economic Policy Institute. https://files.epi.org/pdf/163651.pdf.

Hott, B.L., Jones, B.A., Randolph, K.M., Kuntz, E., McKenna, J.W., & Brigham, F.J. (2021). Lessons learned from a descriptive review of rural individualized education programs. Journal of Special Education, 55(3), 163-173. https://doi.org/10.1177/0022466920972670.

Kaufman, J.H., Doan, S., Tuma, A.P., Woo, A., Henry, D., & Lawrence, R.A. (2020). How instructional materials are used and supported in U.S. K-12 classrooms: Findings from the 2019 American Instructional Resources Survey. RAND Corporation. https://doi.org/10.7249/rra134-1.

Kuhfeld, M., Soland, J., Lewis, K., Ruzek, E., & Johnson, A. (2022). The COVID-19 school year: Learning and recovery across 2020-2021. AERA Open, 8. https://doi.org/10.1177/23328584221099306.

Lequia, J.L., Vincent, L.B., Lyons, G.L., Asmus, J.M., & Carter, E.W. (2023). Individualized education programs of high school students with significant disabilities. Education & Training in Autism & Developmental Disabilities, 58(1), 22-35.

Page, E., Leonard-Kane, R., Kashefpakdel, E., Riggall, A., & Guerriero, S. (2021). Learning loss, learning gains and wellbeing: A rapid evidence assessment. Education Development Trust.

Wong, V.W., Ruble, L.A., Yu, Y., & McGrew, J.H. (2017). Too stressed to teach? Teaching quality, student engagement, and IEP outcomes. Exceptional Children, 83(4), 412-427. https://doi.org/10.1177/0014402917690729.

Waiver of Proposed Rulemaking: Under the Administrative Procedure Act (APA) (5 U.S.C. 553) the Department generally offers interested parties the opportunity to comment on proposed priorities. Section 681(d) of IDEA, however, makes the public comment requirements of the APA inapplicable to the priority in this notice.

Program Authority: 20 U.S.C. 1463 and 1481.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to institutions of higher education (IHEs) only.

II. Award Information

Type of Award: Cooperative agreement.

Estimated Available Funds: The Administration has requested $55,345,000 for the Technical Assistance and Dissemination to Improve Services and Results for Children with Disabilities program for FY 2024, of which we intend to use an estimated $3,250,000 for this competition. The actual level of funding, if any, depends on final congressional action. However, we are inviting applications to allow enough time to complete the grant process if Congress appropriates funds for this program.

Contingent upon the availability of funds and the quality of applications, we may make additional awards in FY 2025 from the list of unfunded applications from this competition.

Maximum Award: We will not make an award exceeding $3,250,000 for a single budget period of 12 months.

Estimated Number of Awards: 1.

Note: The Department is not bound by any estimates in this notice.

Project Period: Up to 60 months.

III. Eligibility Information

1. Eligible Applicants: SEAs; State lead agencies under Part C of the IDEA; LEAs, including public charter schools that are considered LEAs under State law; IHEs; other public agencies; private nonprofit organizations; freely associated States and outlying areas; Indian Tribes or Tribal organizations; and for-profit organizations.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: Under 34 CFR 75.708(b) and (c), a grantee under this competition may award subgrants—to directly carry out project activities described in its application—to the following types of entities: IHEs, nonprofit organizations suitable to carry out the activities proposed in the application, and public agencies. The grantee may award subgrants to entities it has identified in an approved application or that it selects through a competition under procedures established by the grantee, consistent with 34 CFR 75.708(b)(2).

4. Other General Requirements:

(a) Recipients of funding under this competition must make positive efforts to employ and advance in employment qualified individuals with disabilities (see section 606 of IDEA).

(b) Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 7, 2022 (87 FR 75045) and available at www.federalregister.gov/d/2022-26554, which contain requirements and information on how to submit an application.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 70 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are listed below:

(a) Significance (10 points).

(1) The Secretary considers the significance of the proposed project.

(2) In determining the significance of the proposed project, the Secretary considers the following factors:

(i) The extent to which specific gaps or weaknesses in services, infrastructure, or opportunities have been identified and will be addressed by the proposed project, including the nature and magnitude of those gaps or weaknesses.

(ii) The importance or magnitude of the results or outcomes likely to be attained by the proposed project.

(b) Quality of project services (35 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable.

(ii) The extent to which there is a conceptual framework underlying the proposed research or demonstration activities and the quality of that framework.

(iii) The extent to which the services to be provided by the proposed project reflect up-to-date knowledge from research and effective practice.

(iv) The extent to which the training or professional development services to be provided by the proposed project are of sufficient quality, intensity, and duration to lead to improvements in practice among the recipients of those services.

(v) The extent to which the TA services to be provided by the proposed project involve the use of efficient strategies, including the use of technology, as appropriate, and the leveraging of non-project resources.

(c) Quality of the project evaluation (20 points).

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation provide for examining the effectiveness of project implementation strategies.

(iii) The extent to which the methods of evaluation will provide performance feedback and permit periodic assessment of progress toward achieving intended outcomes.

(iv) The extent to which the methods of evaluation include the use of objective performance measures that are clearly related to the intended outcomes of the project and will produce quantitative and qualitative data to the extent possible.

(d) Adequacy of resources and quality of project personnel (15 points).

(1) The Secretary considers the adequacy of resources for the proposed project and the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator.

(ii) The qualifications, including relevant training and experience, of key project personnel.

(iii) The qualifications, including relevant training and experience, of project consultants or subcontractors.

(iv) The qualifications, including relevant training, experience, and independence, of the evaluator.

(v) The adequacy of support, including facilities, equipment, supplies, and other resources, from the applicant organization or the lead applicant organization.

(vi) The relevance and demonstrated commitment of each partner in the proposed project to the implementation and success of the project.

(vii) The extent to which the budget is adequate to support the proposed project.

(viii) The extent to which the costs are reasonable in relation to the objectives, design, and potential significance of the proposed project.

(e) Quality of the management plan (20 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(iii) The adequacy of mechanisms for ensuring high-quality products and services from the proposed project.

(iv) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purpose of Department reporting under 34 CFR 75.110, we have established a set of performance measures, including long-term measures, that are designed to yield information on various aspects of the effectiveness and quality of the Technical Assistance and Dissemination to Improve Services and Results for Children With Disabilities program. These measures are:

• Program Performance Measure #1: The percentage of Technical Assistance and Dissemination products and services deemed to be of high quality by an independent review panel of experts qualified to review the substantive content of the products and services.

• Program Performance Measure #2: The percentage of Special Education Technical Assistance and Dissemination products and services deemed by an independent review panel of qualified experts to be of high relevance to educational and early intervention policy or practice.

• Program Performance Measure #3: The percentage of all Special Education Technical Assistance and Dissemination products and services deemed by an independent review panel of qualified experts to be useful in improving educational or early intervention policy or practice.

• Program Performance Measure #4: The cost efficiency of the Technical Assistance and Dissemination Program includes the percentage of milestones achieved in the current annual performance report period and the percentage of funds spent during the current fiscal year.

• Long-term Program Performance Measure: The percentage of States receiving Special Education Technical Assistance and Dissemination services regarding scientifically or evidence-based practices for infants, toddlers, children, and youth with disabilities that successfully promote the implementation of those practices in school districts and service agencies.

The measures apply to projects funded under this competition, and grantees are required to submit data on these measures as directed by OSEP.

Grantees will be required to report information on their project's performance in annual and final performance reports to the Department (34 CFR 75.590).

The Department will also closely monitor the extent to which the products and services provided by the Center meet needs identified by stakeholders and may require the Center to report on such alignment in their annual and final performance reports.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Glenna Wright-Gallo,
Assistant Secretary for Special Education and Rehabilitative Services.

[FR Doc. 2024-03595 Filed 2-21-24; 8:45 am]

BILLING CODE 4000-01-P